DEPARTMENT OF HEALTH AND HUMAN SERVICES

National Institutes of Health

National Institute of Mental Health; Cancellation of Meeting

Notice is hereby given of the cancellation of the National Institute of Mental Health Special Emphasis Panel, September 14, 2016, 10:00 a.m. to September 14, 2016, 11:00 a.m., National Institutes of Health, NSC, 6001 Executive Boulevard, Bethesda, MD 20892 which was published in the Federal Register on August 30, 2016, 81 FR 59643.

The meeting notice is being cancelled due to reviewer conflicts. The review will be rescheduled.

Dated: September 16, 2016.
Carolyn A. Baum,
Program Analyst, Office of Federal Advisory Committee Policy.

[FR Doc. 2016-22812 Filed 9-21-16; 8:45 am]

BILLING CODE 4140-01-P